DEPARTMENT OF HEALTH AND HUMAN SERVICES

National Institutes of Health

National Heart, Lung, and Blood Institute; Amended Notice of Meeting

Notice is hereby given of a change in the meeting of the National Heart, Lung, and Blood Institute Special Emphasis Panel, February 20, 2008, 8 a.m. to February 21, 2008, 1 p.m., Courtyard Marriott, 2899 Jefferson Davis Highway, Arlington, VA 22202 which was published in the Federal Register on January 9, 2008, FR08-41.

The panel name was changed from Patient Oriented and Career Enhancement Awards for Stem Cell Research to NHLBI-Patient Oriented Research (K23, 24, and 25's) Career Enhancement Awards. The rest of the information remains the same. The meeting is closed to the public.

Dated: January 18, 2008.
Jennifer Spaeth,
Director, Office of Federal Advisory Committee Policy.

[FR Doc. 08-298 Filed 1-25-08; 8:45 am]

BILLING CODE 4140-01-M